DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before December 16, 2024.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on November 4, 2024.
Donald P. Burger,
Chief, General Approvals and Permits Branch.

Special Permits Data
Application number | Applicant | Regulation(s) affected | Nature of the special permits thereof
21838-N | Blue Origin Florida, LLC | 173.302(a)(2) | To authorize the transportation in commerce of non-DOT specification cylinders, incorporated into a repellant management system within a satellite. (modes 1, 4).
21873-N | Tesla, Inc | 173.185(b) | To authorize the transportation in commerce of multiple lithium ion cells packaged within a plastic non-DOT specification large packaging by motor vehicle and rail freight. (modes 1, 2).
21874-N | Kary Environmental Services, Inc | 173.185(f)(1), 173.185(f)(2), 173.185(f)(3) | To authorize the transportation in commerce of damaged, defective, and recalled lithium batteries in alternative packaging. (mode 1).
21875-N | Sig Sauer Inc | 172.300, 172.101(i)(3), 173.62 | To authorize the transportation in commerce of small arms ammunition in bulk packaging. (mode 1).
21876-N | Unipart North America Limited | 172.101(j) | To authorize the transportation in commerce of lithium batteries exceeding 35 kg by cargo-only aircraft. (mode 4).
21880-N | U.S. Department of Energy | 173.203 | To authorize the transportation in commerce of hazardous materials in non-DOT specification packagings. (mode 1).
21881-N | Airbus Defense and Space GmbH | 172.400, 172.300, 172.101(j)(1), 173.301(f), 173.302a(a)(1) | To authorize the transportation in commerce of hazardous materials identified in paragraph 6. of the special permit installed in spacecraft or components of spacecraft. (modes 1,4).
21882-N | Capitol Helicopters, Inc | 172.200, 172.204(c)(3), 172.301(c), 172.101(j), 173.27(b)(2), 175.75, 175.30(a)(1) | To authorize the transportation in commerce of hazardous materials by 14 CFR Part 133 cargo-only aircraft (rotorcraft external load operations) transporting hazardous materials attached to or suspended from the aircraft, and Part 135 in remote areas of the US without being subject to certain hazard communication requirements, quantity limitations, and certain loading and stowage requirements. (modes 4,5).
21884-N | Nexair, LLC | 172.203(a), 180.205(f), 180.205(g)(1), 180.209(a), 180.209(b), 180.209(f), 180.213(f) | To authorize the transportation in commerce of liquefied or non-liquefied gases classified as Division 2.1 or 2.2 gases in DOT 3AA cylinders that have been re-qualified using UE testing at least once every 15 years in lieu of internal inspection and hydrostatic testing required every 5 years. (modes 1, 2, 3, 4, 5).
21885-N | Ecotec Manufacturing, Inc | 171.8, 171.23(b), 173.304a(a)(1) | To authorize the transportation in commerce of certain Division 2.1 gases in a DOT 2Q container. (modes 1, 2, 3, 4).
21886-N | Weilert Enterprises, Inc | 172.102(c), 173.159a(c)(2), 173.185(c)(2), 173.185(c)(4)(iv) | To authorize the manufacture, mark, sale, and use of packaging used to transport mixed chemistries of end-of-life batteries for disposal or recycling. (modes 1, 2).
21887-N | The Clorox Company | 173.306(a)(5)(v), 173.306(a)(5)(vi), 173.306(a)(5)(vi)(A), 173.306(a)(5)(vi)(B) | To authorize in-line pressure testing of non-flammable, non-toxic compressed gases (Division 2.2) in DOT Specification 2S and non-DOT specification plastic aerosols not exceeding 1L capacity in lieu of hot water bath and alternative leakage tests. (modes 1, 2, 3, 4, 5).
21889-N | Colorado Highland Helicopters, LLC | 172.101(j), 173.27(b)(2), 175.30(a)(1) | To authorize the transportation in commerce of certain Division 1.1, 1.2, 1.3, and 1.4 explosives aboard cargo-only aircraft. (mode 4).

[FR Doc. 2024-26443 Filed 11-13-24; 8:45 am]

BILLING CODE P